DEPARTMENT OF THE TREASURY

Submission for OMB Review; Comment Request

May 3, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 8, 2006 to be assured of consideration.

Financial Crimes Enforcement Network (FinCEN)

OMB Number: 1506-0026.

Type of Review: Extension.

Title: Customer Identification Program for banks, savings associations, credit unions, and certain non-federally regulated banks.

Description: Banks, savings associations, credit unions, and certain non-federally regulated banks are required to develop and maintain customer identification programs.

Respondents: Business or other for-profit; and Not-for-profit institutions.

Estimated Total Reporting Burden: 242,660 hours.

OMB Number: 1506-0033.

Type of Review: Extension.

Title: Customer Identification Programs for Mutual Funds.

Description: Mutual Funds are required to establish and maintain customer identification programs. A copy of the written program must be maintained for five years.

Respondents: Business or other for-profit.

Estimated Total Reporting Burden: 266,700 hours.

OMB Number: 1506-0035.

Type of Review: Extension.

Title: Anti-Money Laundering Program for Insurance Companies.

Description: Insurance companies are required to establish and maintain a written anti-money laundering program. A copy of the written program must be maintained for five years.

Respondents: Business or other for-profit.

Estimated Total Reporting Burden: 1,200 hours.

OMB Number: 1506-0022.

Type of Review: Extension.

Title: Customer Identification Programs for Futures Commission Merchants and Introducing Brokers.

Description: Futures commission merchants and introducing brokers are required to develop and maintain a customer identification program. A copy of the program must be maintained for five years.

Respondents: Business or other for-profit.

Estimated Total Reporting Burden: 20,471 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Michael A. Robinson,
Treasury PRA Clearance Officer.

[FR Doc. E6-7030 Filed 5-8-06; 8:45 am]

BILLING CODE 4810-02-P